DEPARTMENT OF HEALTH AND HUMAN SERVICES

Centers for Disease Control and Prevention

Breast and Cervical Cancer Early Detection and Control Advisory Committee (BCCEDCAC)

In accordance with section 10(a)(2) of the Federal Advisory Committee Act (Pub. L. 92-463), the Centers for Disease Control and Prevention (CDC) announces the following meeting of the aforementioned committee:

Name: Breast and Cervical Cancer Early Detection and Control Advisory Committee.

Times and Dates: 9:00 a.m.-5:00 p.m., December 6, 2012; 9:00 a.m.-12:30 p.m., December 7, 2012.

Place: University Office Park, Columbia Building, 2900 Woodcock Boulevard, Atlanta, Georgia 30341.

Status: Open to the public, limited only by the space available.

Purpose: The committee is charged with advising the Secretary, Department of Health and Human Services, and the Director, CDC, regarding the early detection and control of breast and cervical cancer. The committee makes recommendations regarding national program goals and objectives; implementation strategies; and program priorities including surveillance, epidemiologic investigations, education and training, information dissemination, professional interactions and collaborations, and policy.

Matters To Be Discussed: The agenda will include discussion on the impact of implementation of the Affordable Care Act on the National Breast and Cervical Cancer Early Detection Program; presentations on outcomes of Care Coordination and Waiver projects; and discussions on how to expand services to impact women beyond our eligible screening population.

Agenda items are subject to change as priorities dictate.

Contact Person for More Information: Jameka R. Blackmon, Executive Secretary, BCCEDCAC, Division of Cancer Prevention and Control, National Center for Chronic Disease Prevention and Health Promotion, CDC, 4770 Buford Highway, Mailstop K-52, Chamblee, Georgia 30314, Telephone: 770-488-4880. The Director, Management Analysis and Services Office, has been delegated the authority to sign Federal Register notices pertaining to announcements of meetings and other committee management activities, for both the Centers for Disease Control and Prevention and the Agency for Toxic Substances and Disease Registry.

Dated: October 26, 2012.
Elaine L. Baker,
Director, Management Analysis and Services Office, Centers for Disease Control and Prevention.

[FR Doc. 2012-26893 Filed 11-2-12; 8:45 am]

BILLING CODE 4163-18-P